DEPARTMENT OF COMMERCE

International Trade Administration

[A-583-850]

Certain Oil Country Tubular Goods From Taiwan: Amended Preliminary Negative Determination of Sales at Less Than Fair Value and Postponement of Final Determination

AGENCY: Enforcement and Compliance, formerly Import Administration, International Trade Administration, Department of Commerce.

SUMMARY: As a result of the correction of a significant ministerial error, the Department of Commerce (the Department) preliminarily determines that certain oil country tubular goods (OCTG) from Taiwan are not being, nor are likely to be, sold in the United States at less than fair value, as provided in section 733(b) of the Tariff Act of 1930, as amended (the Act). The period of investigation is July 1, 2012, through June 30, 2013. Interested parties are invited to comment on this amended preliminary determination.

DATES: Effective Date: February 25, 2014.

FOR FURTHER INFORMATION CONTACT: Thomas Schauer or Hermes Pinilla, AD/CVD Operations, Office I, Enforcement and Compliance, International Trade Administration, U.S. Department of Commerce, 14th Street and Constitution Avenue NW., Washington, DC 20230; telephone: (202) 482-0410 or (202) 482-3477, respectively.

SUPPLEMENTARY INFORMATION:

Background

We published the Preliminary Determination on February 25, 2014.¹ On February 24, 2014, Tension Steel Industries Co., Ltd. (Tension Steel), alleged that the Department made a significant ministerial error.

¹ See Certain Oil Country Tubular Goods From Taiwan: Affirmative Preliminary Determination of Sales at Less Than Fair Value and Postponement of Final Determination, 79 FR 10495 (February 25, 2014) (Preliminary Determination).

Scope of the Investigation

The merchandise covered by the investigation is certain oil country tubular goods (OCTG), which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the investigation also covers OCTG coupling stock.

Excluded from the scope of the investigation are: Casing or tubing containing 10.5 percent or more by weight of chromium; drill pipe; unattached couplings; and unattached thread protectors.

The merchandise subject to the investigation is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to the investigation may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

The HTSUS subheadings above are provided for convenience and customs purposes only. The written description of the scope of the investigation is dispositive.

Significant Ministerial Error

A ministerial error is defined in 19 CFR 351.224(f) as “an error in addition, subtraction, or other arithmetic function, clerical error resulting from inaccurate copying, duplication, or the like, and any other similar type of unintentional error which the Secretary considers ministerial.” Further, 19 CFR 351.224(e) provides that the Department “will analyze any comments received and, if appropriate, correct any significant ministerial error by amending the preliminary determination.” A significant ministerial error is defined as a ministerial error, the correction of which, singly or in combination with other errors, would result in: (1) A change of at least five absolute percentage points in, but not less than 25 percent of, the weighted-average dumping margin calculated in the original (erroneous) preliminary determination; or (2) a difference between a weighted-average dumping margin of zero or de minimis and a weighted-average dumping margin of greater than de minimis or vice versa.²

² See 19 CFR 351.224(g)(1) and (2).

Ministerial Error Allegation

Tension Steel argues that the Department did not properly convert rebates and commissions reported for Canadian sales. Tension Steel asserts that, although it reported rebates and commissions incurred on Canadian sales in U.S. dollars, the Department treated them as if they were reported in Taiwanese dollars.

We agree. Moreover, pursuant to 19 CFR 351.224(g)(2), this error is significant because the correction of the error results in a difference between a weighted-average dumping margin of greater than de minimis and a weighted-average dumping margin of zero or de minimis. Therefore, we are correcting the error alleged by Tension Steel and amending our preliminary determination accordingly.

Amended Preliminary Determination

We are amending the preliminary determination of sales at less than fair value for OCTG from Taiwan to reflect the correction of a ministerial error made in the margin calculations of that determination. Correcting this error results in an amended preliminary determination that sales were made at not less than fair value. As a result of the correction of the ministerial error, the revised weighted-average dumping margin is as follows:

Exporter/manufacturer | Weighted-average dumping margin
Tension Steel Industries Co., Ltd | 0.00%

The other respondent selected for individual examination, Chung Hung Steel Corp, also received a zero margin in the Preliminary Determination. Consistent with section 733(d)(1)(A) of the Act, in this amended preliminary determination, the Department has not calculated a weighted-average dumping margin for all other producers or exporters because it has not made an affirmative amended preliminary determination of sales at less than fair value.

Postponement of Final Determination

In the Preliminary Determination, we postponed the final determination based on requests from the respondents, Chung Hung Steel Corp. and Tension Steel Industries Co., Ltd.³ Because this amended preliminary determination is negative, we are basing our postponement of the final determination on the request submitted by Maverick Tube Corporation, a petitioner in this investigation. Pursuant to section 735(a)(2)(B) of the Act and 19 CFR 351.210(b)(2)(i), on February 11, 2014, Maverick Tube Corporation requested that in the event of a negative preliminary determination in this investigation, the Department postpone its final determination until not later than 135 days after the date of the publication of the preliminary determination in the Federal Register. In accordance with 19 CFR 351.210(b)(2)(i), because our amended preliminary determination is negative and no compelling reasons for denial exist, we are granting this petitioner's request and are continuing to postpone the final determination until not later than 135 days after the publication of the Department's original preliminary determination notice in the Federal Register on February 25, 2014.

³ See Preliminary Determination, 79 FR at 10497.

Suspension of Liquidation

We will instruct the U.S. Customs and Border Protection to terminate the suspension of liquidation of all entries of OCTG from Taiwan and release any cash deposits posted. These instructions will remain in effect until further notice.

International Trade Commission (ITC) Notification

In accordance with section 733(f) of the Act, we notified the International Trade Commission (ITC) of our amended preliminary determination. If our final determination is affirmative, the ITC will make its final determination as to whether the domestic industry in the United States is materially injured, or threatened with material injury, by reason of imports of OCTG, or sales (or the likelihood of sales) for importation, of the merchandise under investigation, within 45 days of our final determination.

This determination is issued and published in accordance with sections 733(f) and 777(i) of the Act and 19 CFR 351.224(e).

Dated: March 27, 2014.
Paul Piquado,
Assistant Secretary for Enforcement and Compliance.

[FR Doc. 2014-07485 Filed 4-2-14; 8:45 am]

BILLING CODE 3510-DS-P